DEPARTMENT OF HEALTH AND HUMAN SERVICES

Centers for Medicare & Medicaid Services

[CMS-3087-N]

Medicare Program; Meeting of the Executive Committee of the Medicare Coverage Advisory Committee—April 16, 2002

AGENCY: Centers for Medicare & Medicaid Services (CMS), HHS.

ACTION: Notice of meeting.

SUMMARY: This notice announces a public meeting of the Executive Committee (the Committee) of the Medicare Coverage Advisory Committee (MCAC). The Committee provides advice and recommendations to us about clinical issues. The Committee will act upon recommendations from the Diagnostic Imaging Panel of the MCAC regarding whether and when it is scientifically justified to use FDG Positron Emission Tomography or other neuroimaging devices for the diagnosis and patient management of those with Alzheimer's disease.

Notice of this meeting is given under the Federal Advisory Committee Act (5 U.S.C. App. 2, section 10(a)(1) and (a)(2)).

DATES: The Meeting: April 16, 2002 from 8 a.m. until 4:30 p.m., E.D.T.

Deadline for Presentations and Comments: March 27, 2002, 5 p.m., E.D.T.

Special Accommodations: Persons attending the meeting who are hearing or visually impaired, or have a condition that requires special assistance or accommodations, are asked to notify the Executive Secretary by March 18, 2002 (see FOR FURTHER INFORMATION CONTACT).

ADDRESSES: The Meeting: The meeting will be held at the Baltimore Convention Center, Room 321-322, One West Pratt Street, Baltimore, MD 21201.

Presentations and Comments: Submit formal presentations and written comments to Janet A. Anderson, Executive Secretary; Office of Clinical Standards and Quality; Centers for Medicare & Medicaid Services; 7500 Security Boulevard; Mail Stop C1-09-06; Baltimore, MD 21244.

Website: You may access up-to-date information on this meeting at www.hcfa.gov/coverage.

Hotline: You may access up-to-date information on this meeting on the CMS Advisory Committee Information Hotline, 1-877-449-5659 (toll free) or in the Baltimore area (410) 786-9379.

FOR FURTHER INFORMATION CONTACT: Janet A. Anderson, Executive Secretary, 410-786-2700.

SUPPLEMENTARY INFORMATION: On December 14, 1998, we published a notice in the Federal Register (63 FR 68780) to describe the Medicare Coverage Advisory Committee (MCAC), which provides advice and recommendations to us about clinical issues. This notice announces the following April 16, 2002 public meeting of the Executive Committee (the Committee) of the MCAC.

Current Panel Members

Harold C. Sox, M.D.; Daisy Alford-Smith, Ph.D.; Wade Aubry, M.D.; Linda Bergthold, Ph.D.; Ronald M. Davis, M.D.; John H. Ferguson, M.D.; Leslie P. Francis, J.D., Ph.D.; Alan M. Garber, M.D., Ph.D.; Thomas V. Holohan, M.D., M.A.; Michael D. Maves, M.D., M.B.A.; Barbara J. McNeil, M.D., Ph.D.; Robert L. Murray, Ph.D.; Frank J. Papatheofanis, M.D., Ph.D.; Randel E. Richner, M.P.H.

Meeting Topic

The Committee will act on recommendations from the Diagnostic Imaging Panel of the MCAC regarding FDG Positron Emission Tomography imaging for Alzheimer's disease, mild cognitive impairment, and dementia.

Procedure and Agenda

This meeting is open to the public. The Committee will hear oral presentations from the public for approximately 90 minutes. The Committee may limit the number and duration of oral presentations to the time available. If you wish to make a formal presentation, you must notify the Executive Secretary named in the FOR FURTHER INFORMATION CONTACT section of this notice, and submit the following by the Deadline for Presentations and Comments date listed in the DATES section of this notice: a brief statement of the general nature of the evidence or arguments you wish to present, and the names and addresses of proposed participants. A written copy of your presentation must be provided to the Executive Secretary before offering your public comments. We will request that you declare at the meeting whether or not you have any financial involvement with manufacturers of any items or services being discussed (or with their competitors).

After the public and CMS presentations, the Committee will deliberate openly on the topic. Interested persons may observe the deliberations, but the Committee will not hear further comments during this time except at the request of the chairperson. The Committee will also allow approximately a 30-minute open public session for any attendee to address issues specific to the topic. At the conclusion of the day, the members will vote, and the Committee will make its recommendation.

Authority: 5 U.S.C. App. 2, section 10(a)(1) and (a)(2).

(Catalog of Federal Domestic Assistance Program No. 93.774, Medicare—Supplementary Medical Insurance Program)
Dated: January 31, 2002.
Jeffrey L. Kang,
Director, Office of Clinical Standards and, Quality, Centers for Medicare & Medicaid Services.

[FR Doc. 02-3986 Filed 2-21-02; 8:45 am]

BILLING CODE 4120-01-P